DEPARTMENT OF LABOR

Occupational Safety and Health Administration

29 CFR Part 1926

[Docket No. S-030]

RIN No. 1218-AC01

Safety Standards for Cranes and Derricks

AGENCY: Occupational Safety and Health Administration (OSHA), U.S. Department of Labor.

ACTION: Notice of the third meeting of the Negotiated Rulemaking Committee.

SUMMARY: The Occupational Safety and Health Administration (OSHA) announces the third meeting of the Crane and Derrick Negotiated Rulemaking Advisory Committee (C-DAC). The Committee will review summary notes of the second meeting, review draft regulatory text and continue to address substantive issues. The meeting will be open to the public.

DATES: The meeting will be on October 1, 2, 3, 2003. It will begin each day at 8:30 a.m.

ADDRESSES: The meeting will be held at the U.S. Department of Labor, 200 Constitution Avenue, NW., Washington, DC 20210 and will be in conference room N-3437 A, B and C.

Written comments to the Committee may be submitted in any of three ways: by mail, by fax, or by e-mail. Please include “Docket No. S-030” on all submissions.

By mail, submit three (3) copies to: OSHA Docket Office, Docket No. S-030, U.S. Department of Labor, 200 Constitution Avenue, NW., Room N-2625, Washington, DC 20210, telephone (202) 693-2350. Note that receipt of comments submitted by mail may be delayed by several weeks.

By fax, written comments that are 10 pages or fewer may be transmitted to the OSHA Docket Office at fax number (202) 693-1648.

Electronically, comments may be submitted through OSHA's Web page at http://ecomments.osha.gov. Please note that you may not attach materials such as studies or journal articles to your electronic comments. If you wish to include such materials, you must submit three copies to the OSHA Docket Office at the address listed above. When submitting such materials to the OSHA Docket Office, clearly identify your electronic comments by name, date, subject, and Docket Number, so that we can attach the materials to your electronic comments.

FOR FURTHER INFORMATION CONTACT: Michael Buchet, Office of Construction Standards and Guidance, Occupational Safety and Health Administration, U.S. Department of Labor, Room N-3468, 200 Constitution Avenue, NW., Washington, DC 20210; Telephone: (202) 693-2345.

Table of Contents

I. Background

II. Agenda

III. Anticipated Key Issues for Negotiation

IV. Public Participation

I. Background

On July 16, 2002, OSHA published a notice of intent to establish a negotiated rulemaking committee, requesting comments and nominations for membership (Volume 67 of the Federal Register, page 46612). In subsequent notices the Department of Labor announced the establishment of the Committee (Volume 68 of the Federal Register, page 35172, June 12, 2003), requested comments on a list of proposed members (68 FR 9036, February 27, 2003), published a final membership list (68 FR 39877, July 3, 2003), announced the first meeting, (68 FR 39880, July 3, 2003), which was held July 30-August 1, 2003 and announced the second meeting (68 FR 48843, August 15, 2003), which was held September 3-5, 2003.

II. Agenda

The Committee will address the locations for future meetings, review draft materials prepared by the Agency on issues discussed at the first and second meetings, and address additional issues.

III. Anticipated Key Issues for Negotiation

OSHA anticipates that key issues to be addressed will include:

1. The identification/description of what constitutes “cranes and derricks” for purposes of determining the equipment that will be covered by the proposed rule.

2. Qualifications of individuals who operate, maintain, repair, assemble, and disassemble cranes and derricks.

3. Work zone control.

4. Crane operations near electric power lines.

5. Qualifications of signal-persons and communication systems and requirements.

6. Load capacity and control procedures.

7. Wire rope criteria.

8. Crane inspection/certification records.

9. Rigging procedures.

10. Requirements for fail-safe, warning, and other safety-related devices/technologies.

11. Verification criteria for the structural adequacy of crane components.

12. Stability testing requirements.

13. Blind pick procedures.

14. Fall protection.

IV. Public Participation

All interested parties are invited to attend this public meeting at the time and place indicated above. Note, however, that a government issued photo ID card (State or Federal) is required for entry into the Department of Labor building. No advanced registration is required. The public must enter the Department of Labor for this meeting through the 3rd and C Street, NW., entrance. Seating will be available to the public on a first-come, first-served basis. Individuals with disabilities wishing to attend should contact Luz DelaCruz by telephone at 202-693-2020 or by fax at 202-693-1689 to obtain appropriate accommodations no later than Wednesday, September 24, 2003. The C-DAC meeting is expected to last two and a half days.

In addition, members of the general public may request an opportunity to make oral presentations to the Committee. The Facilitator has the authority to decide to what extent oral presentations by members of the public may be permitted at the meeting. Oral presentations will be limited to statements of fact and views, and shall not include any questioning of the committee members or other participants.

Minutes of the meetings and materials prepared for the Committee will be available for public inspection at the OSHA Docket Office, Room N-2625, 200 Constitution Ave., NW., Washington, DC 20210; Telephone (202) 693-2350.

The Facilitator, Susan Podziba, can be reached at Susan Podziba and Associates, 21 Orchard Road, Brookline, MA 02445; telephone (617) 738-5320, fax (617) 738-6911.

Signed at Washington, DC, this 9th day of September, 2003.
John L. Henshaw,
Assistant Secretary of Labor for Occupational Safety and Health.

[FR Doc. 03-23404 Filed 9-12-03; 8:45 am]

BILLING CODE 4510-26-P